SMALL BUSINESS ADMINISTRATION

[MidMark Capital II, L.P License No. 02/72-0602]

Notice Seeking Exemption Under Section 312 of the Small Business Investment Act, Conflicts of Interest

Notice is hereby given that MidMark Capital II, L.P., 177 Madison Avenue, Morristown, New Jersey 07960, a Federal Licensee under the Small Business Investment Act of 1958, as amended (“the Act”), in connection with the financing of a small concern, has sought an exemption under section 312 of the Act and Section 107.730, Financings which Constitute Conflicts of Interest of the Small Business Administration (“SBA”) Rules and Regulations (13 CFR 107.730 (2003)). MidMark Capital II, L.P. proposes to provide equity financing to Kane Magnetics Acquisition, LLC. The financing is contemplated for an acquisition.

The financing is brought within the purview of Section 107.730(a)(1) of the Regulations because MidMark Equity Partners II, L.P., an Associate of MidMark Capital II, L.P., currently owns greater than ten percent of Kane Magnetics Acquisition, LLC and therefore Kane Magnetics Acquisition, LLC is considered an Associate of MidMark Capital II, L.P. as defined in Sec. 107.50 of the regulations.

Notice is hereby given that any interested person may submit written comments on the transaction to the Associate Administrator for Investment, U.S. Small Business Administration, 409 Third Street, SW., Washington, DC 20416.

Dated: February 25, 2004.
Jeffrey D. Pierson,
Associate Administrator for Investment.

[FR Doc. 04-4575 Filed 3-1-04; 8:45 am]

BILLING CODE 8025-01-P